NUCLEAR REGULATORY COMMISSION

Advisory Committee on the Medical Uses of Isotopes: Meeting Notice

AGENCY: Nuclear Regulatory Commission.

ACTION: Notice of meeting.

SUMMARY: The U.S. Nuclear Regulatory Commission (NRC) will convene a meeting of the Advisory Committee on the Medical Uses of Isotopes (ACMUI) on October 27-28, 2025. Sample agenda items to be discussed during the public session include: a discussion on the potential applications of artificial intelligence and deep learning technologies to enhance the efficiency and effectiveness of the NRC medical staff and ACMUI, a conversation to support the NRC's implementation of the ADVANCE Act, and an update on the Medical Radiation Safety Team's activities. The agenda is subject to change. The current agenda and any updates will be available on the ACMUI's Meetings and Related Documents web page at https://www.nrc.gov/reading-rm/doc-collections/acmui/meetings/2025 or by emailing Ms. Ally Marra at the contact information below.

DATES: Date and Time for Open Sessions: October 27, 2025, from 10:00 a.m. to 3:45 p.m. EST. Date and Time for Closed Session: October 28, 2025, from 9:30 p.m. to 11:30 p.m. EST. This session will be closed to conduct the ACMUI's required annual training.

ADDRESSES:

Public Meeting: U.S. Nuclear Regulatory Commission, One White Flint North Building (Commissioner's Hearing Room), 11555 Rockville Pike, Rockville, Maryland, 20852.

Date | Webinar information (Microsoft Teams)
October 27, 2025 | Link:https://teams.microsoft.com/l/meetup-join/19%3ameeting_OGNlZGJmNDQtODJmMS00ODUyLTk5NjktYzYwNTc0YmJjODYy%40thread.v2/0?context=%7b%22Tid%22%3a%22e8d01475-c3b5-436a-a065-5def4c64f52e%22%2c%22Oid%22%3a%22304f46bf-32c2-4e0f-912c-878db895e74a%22%7d.
| Meeting ID: 247 391 465 232 9.
| Passcode: z95Tf7AP.
| Call in number (audio only): +1 301-576-2978, United States, Silver Spring.
| Phone conference ID: 312 321 789#.

Public Participation: Any member of the public who wishes to participate in the meeting in person, via Microsoft Teams, or via phone should contact Ms. Ally Marra using the information below.

FOR FURTHER INFORMATION CONTACT: Ms. Ally Marra, email: alm8@nrc.gov, telephone: 301-415-2509.

SUPPLEMENTARY INFORMATION: Purpose: Discuss issues related to 10 CFR part 35 Medical Use of Byproduct Material.

Conduct of the Meeting

The ACMUI Chair, Hossein Jadvar, M.D., Ph.D., will preside over the meeting. Dr. Jadvar will conduct the meeting in a manner that will facilitate the orderly conduct of business. The following procedures apply to public participation in the meeting:

1. Persons who wish to provide a written statement should submit an electronic copy to Ms. Ally Marra using the contact information listed above. All submittals must be received by the close of business on October 21, 2025, and must only pertain to the topics on the agenda.

2. Questions and comments from members of the public will be permitted during the meeting, at the discretion of the ACMUI Chair.

3. The draft transcript and meeting summary will be available on ACMUI's website https://www.nrc.gov/reading-rm/doc-collections/acmui/meetings/2025 on or about November 28, 2025.

4. Persons who require special services, such as those for the hearing impaired, should notify Ms. Ally Marra of their planned participation.

This meeting will be held in accordance with the Atomic Energy Act of 1954, as amended (primarily Section 161a); the Federal Advisory Committee Act (5 U.S.C. App); and the Commission's regulations in Title 10 of the Code of Federal Regulations, Part 7.

Dated at Rockville, Maryland, this 24th day of September 2025.
For the U.S. Nuclear Regulatory Commission.
Russell E. Chazell,
Federal Advisory Committee Management Officer.

[FR Doc. 2025-18695 Filed 9-25-25; 8:45 am]

BILLING CODE 7590-01-P